DEPARTMENT OF COMMERCE

International Trade Administration

[C-428-817]

Certain Corrosion-Resistant Carbon Steel Flat Products and Cut-to-Length Carbon Steel Plate Products From Germany: Preliminary Results of Countervailing Duty Changed Circumstances Reviews

AGENCY: Import Administration, International Trade Administration, Department of Commerce.

ACTION: Notice of preliminary results of countervailing duty changed circumstances reviews.

SUMMARY: On December 3, 2003, in response to a request by domestic producers of the subject merchandise, the Department of Commerce (the Department) published a notice of initiation of changed circumstances reviews of the countervailing duty orders on certain corrosion-resistant carbon steel flat products and cut-to-length carbon steel plate products from Germany. See Certain Corrosion-Resistant Carbon Steel Flat Products and Cut-to-Length Carbon Steel Plate Products from Germany: Initiation of Countervailing Duty Changed Circumstances Reviews, 68 FR 67657 (December 3, 2003) (Initiation Notice). In the Initiation Notice, we invited interested parties to comment on the Department's initiation. We received comments from both domestic and foreign parties. As a result of our review of the comments, we preliminarily conclude that producers accounting for substantially all of the production of the domestic like products to which these orders pertain lack interest in the relief provided by the orders.

Unless the Department receives opposition from domestic producers whose production accounts for more than 15 percent of the domestic like product, the Department will revoke the orders on certain corrosion-resistant carbon steel flat products and cut-to-length carbon steel plate products from Germany in the final results of these reviews.

Therefore, we preliminarily revoke these orders, in whole, with respect to products entered, or withdrawn from warehouse, for consumption on or after April 1, 2004, because domestic parties have expressed no interest in the continuation of the orders after that date.

EFFECTIVE DATE: January 28, 2004.

FOR FURTHER INFORMATION CONTACT: Robert Copyak, Office of AD/CVD Enforcement VI, Group II, Import Administration, International Trade Administration, U.S. Department of Commerce, 14th Street and Constitution Avenue, NW., Washington, DC 20230; telephone (202) 482-2209.

SUPPLEMENTARY INFORMATION:

Background

On August 17, 1993, the Department published countervailing duty orders on certain corrosion-resistant carbon steel flat products and cut-to-length carbon steel plate products from Germany. See Countervailing Duty Orders and Amendment to Final Affirmative Countervailing Duty Determinations: Certain Steel Products From Germany, 58 FR 43756 (August 17, 1993). On October 22, 2003, International Steel Group, Inc. (purchaser of Bethlehem Steel Corporation) and United States Steel Corporation, requested that the Department revoke the countervailing duty orders, effective April 1, 2004, based on their lack of further interest in these proceedings.

On December 3, 2003, the Department published a notice of initiation of changed circumstances reviews of the countervailing duty orders on certain corrosion-resistant carbon steel flat products and cut-to-length carbon steel plate products from Germany. See Initiation Notice. In the Initiation Notice we invited interested parties to comment on the Department's initiation.

We received comments from Ispat Inland Inc. (Ispat). Ispat did not object to the changed circumstances review of the order on cut-to-length carbon steel plate products. However, Ispat opposed the initiation of the review on the countervailing duty order on certain corrosion-resistant carbon steel flat products from Germany, expressing continued support for the relief provided by that order.

Ispat questioned whether domestic producers accounting for substantially all, or at least 85 percent, of the production of the domestic like product supported revocation of the order on certain corrosion-resistant carbon steel flat products. Based on Ispat's expressed objection and the fact that those producers requesting revocation did not demonstrate that they account for 85 percent of domestic production, Ispat requested that the Department, at the very least, issue questionnaires to the appropriate interested parties to determine whether, in fact, 85 percent of the domestic industry supports revocation of the order.

The German Producers (AG der Dillinger Hüttenwerke, EKO Stahl GmbH, Salzgitter AG Stahl und Technologie, Stahlwerke Bremen GmbH and Thyssen Krupp Stahl AG) submitted comments supporting the revocation of both countervailing duty orders. The German Producers expressed their belief that International Steel Group, Inc. and United States Steel Corporation account for 85 percent of domestic production of both products. They also argued that revocation of the orders should not be made contingent upon such a requirement in light of the wide latitude provided to the Department by the statute and regulations.

Scope of the Orders

The products covered by these reviews are certain corrosion-resistant carbon steel flat products and cut-to-length steel plate products from Germany.

(1) Certain corrosion-resistant carbon steel flat products: the scope of countervailing duty order of certain corrosion-resistant carbon steel flat products (corrosion-resistant) includes flat-rolled carbon steel products, of rectangular shape, either clad, plated, or coated with corrosion-resistant metals such as zinc, aluminum, or zinc-, aluminum-, nickel-or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule (HTS) under item numbers 7210.31.0000, 7210.39.0000, 7210.41.0000, 7210.49.0030, 7210.49.0090, 7210.60.0000, 7210.70.6030, 7210.70.6060, 7210.70.6090, 7210.90.1000, 7210.90.6000, 7210.90.9000, 7212.21.0000, 7212.29.0000, 7212.30.1030, 7212.30.1090, 7212.30.3000, 7212.30.5000, 7212.40.1000, 7212.40.5000, 7212.50.0000, 7212.60.0000, 7215.90.1000, 7215.90.5000, 7217.12.1000, 7217.13.1000, 7217.19.1000, 7217.19.5000, 7217.22.5000, 7217.23.5000, 7217.29.1000, 7217.29.5000, 7217.32.5000, 7217.33.5000, 7217.39.1000, and 7217.39.5000. Included in this scope are flat-rolled products of non-rectangular cross-section where such cross-section is achieved subsequent to the rolling process (i.e., products which have been worked after rolling)—for example, products which have been beveled or rounded at the edges. Excluded from this scope are flat-rolled steel products either plated or coated with tin, lead, chromium, chromium oxides, both tin and lead (terne plate), or both chromium and chromium oxides (tin-free steel), whether or not painted, varnished or coated with plastics or other nonmetallic substances in addition to the metallic coating. Also excluded from this scope are clad products in straight lengths of 0.1875 inch or more in composite thickness and of a width which exceeds 150 millimeters and measures at least twice the thickness. Also excluded from this scope are certain clad stainless flat-rolled products, which are three-layered corrosion-resistant carbon steel flat-rolled products less than 4.75 millimeters in composite thickness that consist of a carbon steel flat-rolled product clad on both sides with stainless steel in a “20 percent—60 percent—20 percent” ratio. On September 22, 1999, the Department issued the final results of a changed circumstances review and revoked the order with respect to certain corrosion-resistant steel. See Notice of Final Results of Changed Circumstances Antidumping Duty and Countervailing Duty Reviews and Revocation of Orders in Part: Certain Corrosion-Resistant Carbon Steel Flat Products From Germany, 64 FR 51292 (September 22, 1999). The Department noted that the affirmative statement of no interest by petitioners, combined with the lack of comments from interested parties, is sufficient to warrant partial revocation. This partial revocation applies to certain corrosion-resistant deep-drawing carbon steel strip, roll-clad on both sides with aluminum (AlSi) foils in accordance with St3 LG as to EN 10139/10140. The merchandise's chemical composition encompasses a core material of U St 23 (continuous casting) in which carbon is less than 0.08 percent; manganese is less than 0.30 percent; phosphorous is less than 0.20 percent; sulfur is less than 0.015 percent; aluminum is less than 0.01 percent; and the cladding material is a minimum of 99 percent aluminum with silicon/copper/iron of less than 1 percent. The products are in strips with thicknesses of 0.07mm to 4.0mm (inclusive) and widths of 5mm to 800mm (inclusive). The thickness ratio of aluminum on either side of steel may range from 3 percent/94 percent/3 percent to 10 percent/80 percent/10 percent.

(2) Certain cut-to-length carbon steel plate products: The scope of countervailing duty order on certain cut-to-length carbon steel plate products (cut-to-length steel) includes hot-rolled carbon steel universal mill plates (i.e., flat-rolled products rolled on four faces or in a closed box pass, of a width exceeding 150 millimeters but not exceeding 1,250 millimeters and of a thickness of not less than 4 millimeters, not in coils and without patterns in relief), of rectangular shape, neither clad, plated nor coated with metal, whether or not painted, varnished, or coated with plastics or other nonmetallic substances; and certain hot-rolled carbon steel flat-rolled products in straight lengths, of rectangular shape, hot rolled, neither clad, plated, nor coated with metal, whether or not painted, varnished, or coated with plastics or other nonmetallic substances, 4.75 millimeters or more in thickness and of a width which exceeds 150 millimeters and measures at least twice the thickness, as currently classifiable in the Harmonized Tariff Schedule (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Included are flat-rolled products of non-rectangular cross-section where such cross-section is achieved subsequent to the rolling process (i.e., products which have been worked after rolling) for example, products which have been beveled or rounded at the edges. Excluded is grade X-70 plate. On August 25, 1999, the Department issued the final results of a changed-circumstances review revoking the order in part, with respect to certain carbon cut-to-length steel plate with a maximum thickness of 80 mm in steel grades BS 7191, 355 EM and 355 EMZ, as amended by Sable Offshore Energy Project Specification XB MOO Y 15 0001, types 1 and 2. See Certain Cut-to-Length Carbon Steel Plate from Finland, Germany, and United Kingdom: Final Results of Changed Circumstances Antidumping Duty and Countervailing Duty Reviews, and Revocation of Orders in Part, 64 FR 46343 (August 25, 1999).

The HTS item numbers are provided for convenience and custom purposes. The written description remains dispositive.

Preliminary Results of Reviews and Intent To Revoke in Whole the Countervailing Duty Orders

Pursuant to section 751(d)(1) of the 1930 Tariff Act, as amended (the Act), and 19 CFR 351.222(g), the Department may revoke an antidumping or countervailing duty order, in whole or in part, based on a review under section 751(b) of the Act (i.e., a changed circumstances review). Section 751(b)(1) of the Act requires a changed circumstances review to be conducted upon receipt of a request which shows changed circumstances sufficient to warrant a review. Section 782(h)(2) of the Act gives the Department the authority to revoke an order if producers accounting for substantially all of the production of the domestic like product have expressed a lack of interest in the continuation of the order. Section 351.222(g) of the Department's regulations provides that the Department will conduct a changed circumstances review under 19 CFR 351.216, and may revoke an order (in whole or in part), if it concludes that (i) producers accounting for substantially all of the production of the domestic like product to which the order pertains have expressed a lack of interest in the relief provided by the order, in whole or in part, or (ii) if other changed circumstances sufficient to warrant revocation exist. The Department has interpreted “substantially all” production normally to mean at least 85 percent of domestic production of the like product. See Certain Tin Mill Products From Japan: Final Results of Changed Circumstances Review, 66 FR 52109 (October 12, 2001); see also, 19 CFR 351.208(c).

As noted above and in the Initiation Notice, the petitioners requested the revocation of these orders because they are no longer interested in maintaining the orders or in the imposition of duties on the subject merchandise as of April 1, 2004. Because the Department did not receive any comments during the comment period opposing initiation of the changed circumstances review of the countervailing duty order on cut-to-length carbon steel plate from Germany, we preliminarily conclude that producers accounting for substantially all of the production of the domestic like product to which this order pertains lack interest in the relief provided by the order. With respect to the countervailing duty order on certain corrosion-resistant carbon steel flat products from Germany, Ispat argued that the Department should issue questionnaires to determine whether 85 percent of the industry supports revocation of the order. We disagree. In the course of this changed circumstances review, we are providing ample opportunity to all parties to express their support for or opposition to the revocation of this order. As a result, it is not necessary to take the additional step of issuing questionnaires. Therefore, because the Department did not receive objections from domestic producers accounting for more than 15 percent of production of the domestic like product, we preliminarily conclude that producers accounting for substantially all of the production of the domestic like product to which this order pertains lack interest in the relief provided by the order.

In accordance with 19 CFR 351.222(g), the Department preliminarily determines that there is a reasonable basis to believe that changed circumstances exist sufficient to warrant revocation of the orders. Therefore, the Department is preliminarily revoking the orders on certain corrosion-resistant carbon steel flat products and cut-to-length carbon steel plate products from Germany, in whole.

Unless the Department receives opposition within the time limit set forth below from domestic producers whose production, cumulatively, totals more than 15 percent of the domestic like product, the Department will revoke the orders on certain corrosion-resistant carbon steel flat products and cut-to-length carbon steel plate products from Germany in its final results of review. If, as a result of these reviews, we revoke the orders, we intend to instruct the U.S. Customs and Border Protection (CBP) to terminate suspension of liquidation effective April 1, 2004. The current requirement for a cash deposit of estimated countervailing duties on the subject merchandise will continue unless, and until, we publish a final determination to revoke the orders in whole.

Public Comment

Interested parties may submit case briefs not later than 21 days after the date of publication of this notice. See 19 CFR 351.309(c)(ii). Rebuttal briefs, which must be limited to issues raised in such case briefs, may be filed not later than 26 days after the date of publication of this notice. See 19 CFR 351.309(d). Parties who submit arguments are requested to submit with the argument (1) a statement of the issue, (2) a brief summary of the argument, and (3) a table of authorities. Any interested party may request a hearing within 14 days of publication of this notice. See 19 CFR 351.310(c). Any hearing, if requested, may be held 22 days after the date of publication of this notice, or the first working day thereafter, as practicable. Consistent with § 351.216(e) of the Department's regulations, we will issue the final results of these changed circumstances reviews not later than 270 days after the date on which these reviews were initiated.

This notice is published in accordance with section 751(b)(1) of the Act and §§ 351.216 and 351.222 of the Department's regulations.

Dated: January 22, 2004.
James J. Jochum,
Assistant Secretary for Import Administration.

[FR Doc. 04-1830 Filed 1-27-04; 8:45 am]

BILLING CODE 3510-DS-P